FEDERAL COMMUNICATIONS COMMISSION

Notice of Public Information Collection(s) Being Submitted for Review to the Office of Management and Budget

June 1, 2007.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before July 13, 2007. If you anticipate that you will be submitting PRA comments, but find it difficult to do so within the period of time allowed by this notice, you should advise the FCC contact listed below as soon as possible.

ADDRESSES: Direct all PRA comments to Jasmeet K. Seehra, Office of Management and Budget, Room 10236 NEOB, Washington, DC 20503, (202) 395-3123, or via fax at 202-395-5167 or via Internet at Jasmeet_K._Seehra@omb.eop.gov and to Judith-B. Herman@fcc.gov, Federal Communications Commission, Room 1-B441, 445 12th Street, SW., DC 20554 or an e-mail to PRA@fcc.gov. If you would like to obtain or view a copy of this information collection, you may do so by visiting the FCC PRA Web page at: http://www.fcc.gov/omd/pra.

FOR FURTHER INFORMATION CONTACT: For additional information or copies of the information collection(s), contact Judith B. Herman at 202-418-0214 or via the Internet at Judith-B.Herman@fcc.gov.

SUPPLEMENTARY INFORMATION: OMB Control Number: 3060-0865.

Title: Wireless Telecommunications Bureau Universal Licensing System (ULS) Recordkeeping and Third Party Disclosure Requirements.

Form No.: N/A.

Type of Review: Extension of a currently approved collection.

Respondents: Individuals or households, business or other for-profit, not-for-profit institutions, and state, local or tribal government.

Number of Respondents: 70,447 respondents; 70,447 responses.

Estimated Time Per Response: .25—4 hours (average).

Frequency of Response: On occasion reporting requirement, recordkeeping requirement, and third party disclosure requirement.

Obligation to Respond: Required to obtain or retain benefits.

Total Annual Burden: 63,446 hours.

Total Annual Cost: N/A.

Privacy Act Impact Assessment: Yes.

Nature and Extent of Confidentiality: There is a need for confidentiality with respect to all Private Land Mobile Radio service filers in this collection. Information on the private land mobile radio licensees is maintained in the Commission's system of records, FCC/WTB-1, “Wireless Services Licensing Records.” The licensee records will be publicly available and routinely used in accordance with subsection b. of the Privacy Act. Taxpayer Identification Numbers (TINs) and material which is afforded confidential treatment pursuant to a request made under 47 CFR 0.459 will not be available for public inspection. Any personally identifiable information (PII) that individual applicants provide is covered by a system of records reference above and these and all other records may be disclosed pursuant to the Routine Uses as stated in the system of records notice dated April 5, 2006 (71 FR 17234, 17269).

Needs and Uses: The Commission will submit this information collection to OMB as an extension (no change in reporting requirements, recordkeeping requirements and/or third party disclosure requirements) during this comment period to obtain the full three-year clearance from them. The Commission reduced the total annual burden due to an adjustment in the number of responses by licensees who operate within the various service categories of this information collection gathered from the Commission's ULS and CORES databases.

The purpose of this collection is to streamline the set of rules which minimize filing requirements via the Universal Licensing System (ULS); to eliminate redundant and unnecessary submission requirements; and to assure ongoing collection of reliable licensing and ownership data. The recordkeeping and third party disclosure requirements, along with certifications which made via ULS are ways the Commission reduced the filing burden on the industry. However, applicants must maintain records to document compliance with the requirements for which they provide certifications. In some instances, third party coordinations are required.

OMB Control Number: 3060-1007.

Title: Streamlining and Other Revisions of Part 25 of the Commission's Rules.

Form No.: N/A.

Type of Review: Extension of a currently approved collection.

Respondents: Business or other for-profit.

Number of Respondents: 28 respondents; 28 responses.

Estimated Time Per Response: 2.89 hours (average).

Frequency of Response: On occasion, annual and other reporting requirements and third party disclosure requirement.

Obligation to Respond: Required to obtain or retain benefits.

Total Annual Burden: 9,688 hours.

Total Annual Cost: $95,194,000.

Privacy Act Impact Assessment: N/A.

Nature and Extent of Confidentiality: There is a need for confidentiality.

Needs and Uses: The Commission will submit this information collection to OMB as an extension (no change in reporting requirements, recordkeeping requirements and/or third party disclosure requirements) during this comment period to obtain the full three-year clearance from them. There is no change in the number of respondents, total annual burden hours or annual costs.

On April 16, 2004, the Commission released a Fourth Report and Order, IB Docket Numbers 02-34 and 00-248, FCC 04-92. In this Order, the Commission extended the mandatory electronic filing to all space station and earth station applications, related pleadings, and other filings governed by Part 25. Direct Broadcast Satellite (DBS) and Digital Audio Radio Service (DARS) licensees can now use a streamlined procedure when relocating satellites for fleet management purposes. Currently, this procedure is only limited to Geostationary Satellite Orbit (GSO) licensees. The Commission referred to such relocations as “fleet management” license modifications. This change will enable the Commission to act on DBS fleet management modifications faster. Under this streamlined procedure, the DBS and DARS licensees may modify its license without prior authorization, but upon 30 days prior notice to the Commission and any potentially affected licensed spectrum user. In order to utilize the streamlined procedure, the operator is required to meet certain technical requirements contained in Part 25.

Federal Communications Commission.
Marlene H. Dortch,
Secretary.

[FR Doc. E7-11230 Filed 6-12-07; 8:45 am]

BILLING CODE 6712-01-P